DEPARTMENT OF THE INTERIOR

National Park Service

[NPS-WASO-NAGPRA- NPS0025357; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum (Burke Museum) has completed an inventory of human remains, in consultation with the appropriate Indian Tribes or Native Hawaiian organizations, and has determined that there is a cultural affiliation between the human remains and present-day Indian Tribes or Native Hawaiian organizations. Lineal descendants or representatives of any Indian tribe or Native Hawaiian organization not identified in this notice that wish to request transfer of control of these human remains should submit a written request to the Burke Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Burke Museum at the address in this notice by May 21, 2018.

ADDRESSES: Peter Lape, Burke Museum, University of Washington, Box 353010, Seattle, WA 98195, telephone (206) 685-3849, email plape@uw.edu.

SUPPLEMENTARY INFORMATION: Notice is here given in accordance with the Native American Graves Protection and Repatriation Act (NAGPRA), 25 U.S.C. 3003, of the completion of an inventory of human remains under the control of the Burke Museum, University of Washington, Seattle, WA. The human remains were removed from the Aleutian Islands, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Burke Museum professional staff in consultation with representatives of the Agdaagux Tribe of King Cove; Native Village of Akutan; Native Village of Atka; Native Village of Belkofski; Native Village of False Pass; Native Village of Nelson Lagoon; Native Village of Nikolski; Native Village of Unga; Pauloff Harbor Village; Qagan Tayagungin Tribe of Sand Point Village; Qawalangin Tribe of Unalaska; and Pribilof Islands Aleut Communities of St. Paul and St. George Islands, hereafter known as “The Tribes and Native Villages of the Aleutian Islands.”

History and Description of the Remains

At an unknown date prior to 1973, human remains representing, at minimum, one individual were removed from an unknown location in the Aleutian Islands, AK. The human remains were found in collections at the Burke Museum in 1973 (Burke Accn. #1973-58) in a box labeled “Aleutian Skull, R.C. Barnard.” While the label on the box indicates the contents were donated by R. C. Barnard, no donor record exists at the Burke Museum's records for that name. No known individuals were identified. No funerary objects are present.

This individual has been determined to be Native American based on geographical and biological information. Archeological and biological information suggest continuity between past populations and modern Native populations in the Aleutian Islands. The archeological record indicates over 4,500 years of cultural continuity on the Aleutian Islands with unbroken sequences in midden sites (McCartney, 1984). During the 1700s, after contact with the Russians, Unangax/Aleut populations began to decline and by the late 1700s and early 1800s most Unangax/Aleut had relocated, or been removed, to the modern Native Villages. A relationship of shared group identity can reasonably be traced between the human remains and the modern day descendants of the Unangax/Aleut, who are represented by The Tribes and Native Villages of the Aleutian Islands.

Determinations Made by the Burke Museum

Officials of the Burke Museum have determined that:

• Pursuant to 25 U.S.C. 3001(9), the human remains described in this notice represent the physical remains of one individual of Native American ancestry.

• Pursuant to 25 U.S.C. 3001(2), there is a relationship of shared group identity that can be reasonably traced between the Native American human remains and The Tribes and Native Villages of the Aleutian Islands.

Additional Requestors and Disposition

Lineal descendants or representatives of any Indian Tribe or Native Hawaiian organization not identified in this notice that wish to request transfer of control of these human remains should submit a written request with information in support of the request to Peter Lape, Burke Museum, University of Washington, Box 353010, Seattle, WA 98195, telephone (206) 685-3849 Ext 2, email plape@uw.edu, by May 21, 2018. After that date, if no additional requestors have come forward, transfer of control of the human remains to The Tribes and Native Villages of the Aleutian Islands may proceed.

The Burke Museum is responsible for notifying The Tribes and Native Villages of the Aleutian Islands that this notice has been published.

Dated: April 2, 2018.
Melanie O'Brien,
Manager, National NAGPRA Program.

[FR Doc. 2018-08184 Filed 4-18-18; 8:45 am]

BILLING CODE 4312-52-P